DEPARTMENT OF JUSTICE

Office of Justice Programs

[OMB Number 1121-0277]

Agency Information Collection Activities: Proposed Collection; Comments Requested

ACTION: 30-Day Notice of Information Collection Under Review: Revision of currently approved collection and Extension of a currently approved Collection; Office for Victims of Crime Training and Technical Assistance Center (OVC TTAC) and OJJDP National Training and Technical Assistance Center (NTTAC) Feedback Form Package.

The Department of Justice, Office of Justice Programs has submitted the following information collection request for review and clearance in accordance with the Paperwork Reduction Act of 1995. Office of Management and Budget approval is being sought for the information collection listed below. This proposed information collection was previously published in the Federal Register Volume 72, Number 81, Pages 21052-21053, on April 27, 2007, allowing for a 60 day comment period.

The purpose of this notice is to allow for an additional 30 days for public comment until July 30, 2007. This process is conducted in accordance with 5 CFR 1320.10.

Written comments and/or suggestions regarding the items contained in this notice, especially the estimated public burden and associated response time, should be directed to Pamela Leupen, Director, Technical Assistance, Publications, and Information Resources, Office for Victims of Crime, Office of Justice Programs, Department of Justice, 810 7th Street, NW., Washington, DC 20530 or Steve Antkowiak, Training and Technical Assistance Coordinator, Office of Juvenile Justice and Delinquency Prevention, Office of Justice Programs, Department of Justice, 810 7th Street, NW., Washington, DC 20531.

Written comments and suggestions from the public and affected agencies' concerning the proposed collection of information are encouraged. Your comments should address one or more of the following four points:

(1) Evaluate whether the proposed collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Overview of This Information Collection

(1) Type of Information Collection: Revisions of Currently Approved Collection and Extension of a Currently Approved Collection.

(2) Title of the Form/Collection: OVC TTAC and NTTAC Feedback Form Package.

(3) The Agency form number, if any, and the applicable component of the Department of Justice sponsoring the collection: Form Number(s): T-100, T-200, T-300, G-100, G-200, and G-300. Office for Victims of Crime, Office of Justice Programs, Department of Justice. Additionally, the applicable agency for the NTTAC evaluation forms is the Office of Juvenile Justice and Delinquency Prevention, Office of Justice Programs, Department of Justice.

(4) Affected public who will be asked or required to respond, as well as a brief abstract. Primary: State, Local or Tribal. Other: Federal Government; Individuals or households; Not-for-profit institutions; Businesses or other for-profit. Abstract: The Office for Victims of Crime Training and Technical Assistance Center (OVC TTAC) and OJJDP National Training and Technical Assistance Center (NTTAC) Feedback Form Package is designed to collect the data necessary to continuously access the outcome and impact of the assistance provided through OVC TTAC and NTTAC for both monitoring and accountability purposes to continuously meet the needs of the victim services and Juvenile Justice fields. Both OVC TTAC and NTTAC will send these forms to training and technical assistance (TTA) recipients to capture important feedback on the recipient's satisfaction with the quality, efficiency, referrals, and resources provided. The data will then be used to advise OVC TTAC and NTTAC on ways to improve the support provided to its users and the field at-large.

(5) An estimate of the total number of respondents and the amount of time estimated for an average respondent to respond/reply: There are approximately 16,492 respondents who will each require an average of 5 minutes to respond to a single form for TTAC and approximately 4,850 respondents who will require an average of 5 minutes to respond to a single evaluation form for NTTAC.

(6) An estimate of the total public burden (in hours) associated with the collection: The total annual public burden hours for this information collection is estimated to be 1788 hours.

If additional information is required contact: Lynn Bryant, Department Clearance Officer, United States Department of Justice, Planning and Policy Staff, Justice Management Division, 601 D Street, NW., Suite 1600, Washington, DC 20530.

Dated: June 25, 2007.
Lynn Bryant,
Department Deputy Clearance Officer, United States Department of Justice.

[FR Doc. E7-12597 Filed 6-28-07; 8:45 am]

BILLING CODE 4410-18-P